DEPARTMENT OF DEFENSE

Office of the Secretary

[Docket ID: DOD-2016-HA-0020]

Privacy Act of 1974; System of Records

AGENCY: Defense Health Agency, DoD.

ACTION: Notice to alter a System of Records.

SUMMARY: The Defense Health Agency proposes to alter an existing system of records, EDHA 11, entitled “Defense Medical Human Resources System internet (DMHRSi).” This system consolidates all of the human resources functions and permits ready access to manpower, personnel readiness, labor cost assignment, and education and training information across the DoD medical enterprise. This system of records provides a single database source of instant query/access for all personnel types and the readiness posture of all DoD medical personnel.

DATES: Comments will be accepted on or before April 14, 2016. This proposed action will be effective the date following the end of the comment period unless comments are received which result in a contrary determination.

ADDRESSES: You may submit comments, identified by docket number and title, by any of the following methods:

* Federal Rulemaking Portal: http://www.regulations.gov.

Follow the instructions for submitting comments.

* Mail: Department of Defense, Office of the Deputy Chief Management Officer, Directorate of Oversight and Compliance, Regulatory and Audit Matters Office, 9010 Defense Pentagon, Washington, DC 20301-9010.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Linda S. Thomas, Chief, Defense Health Agency Privacy and Civil Liberties Office, 7700 Arlington Boulevard, Suite 5101, Falls Church, VA 22042-5101, or by phone at (703) 681-7500.

SUPPLEMENTARY INFORMATION: The Defense Health Agency notices for systems of records subject to the Privacy Act of 1974 (5 U.S.C. 552a), as amended, have been published in the Federal Register and are available from the address in FOR FURTHER INFORMATION CONTACT or at the Defense Privacy and Civil Liberties Division Web site at http://dpcld.defense.gov/. The proposed system report, as required by 5 U.S.C. 552a(r) of the Privacy Act of 1974, as amended, was submitted on March 3, 2016, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: March 10, 2016.
Aaron Siegel,
Alternate OSD Federal Register Liaison Officer, Department of Defense.

EDHA 11

System name:

Defense Medical Human Resources System internet (DMHRSi) (November 19, 2014, 79 FR 68872).

Changes

* * * * *

System location:

Delete entry and replace with: “Defense Health Agency, 7700 Arlington Boulevard, Suite 5101, Falls Church, VA 222042-5101.”

Categories of individuals covered by the system:

Delete entry and replace with “Active Duty Military, Reserve, National Guard, civilian employees who are assigned to or are part of the Military Health System or the Defense Health Agency (DHA), and includes non-appropriated fund employees, DoD contractors, and volunteers.”

Categories of records in the system:

Delete entry and replace with “Individual's name, date of birth, Social Security Number (SSN) and/or DoD Identification (ID) Number, National Provider Identifier (NPI), Common Access Card (CAC) expiration date, gender, place of birth, citizenship, home address, home telephone number, business email address, work address, work telephone number, race/ethnicity, marital status, medical training information including class names and class dates, military rank information, specialty, licensure, educational background, personnel security clearance data, medical readiness training and other health information required to determine an individual's fitness to perform their duties.”

Authority for maintenance of the system:

Delete entry and replace with “5 U.S.C. 301, Departmental Regulations; 10 U.S.C. 136, Under Secretary of Defense for Personnel and Readiness; E.O. 12656, Assignment of Emergency Preparedness Responsibilities; DoDD 5136.01, Assistant Secretary of Defense for Health Affairs (ASD(HA)); DoDI 1322.24, Medical Readiness Training; DoD 6010.13-M, Medical Expense and Performance Reporting System for Fixed Military Medical and Dental Treatment Facilities Manual; and E.O. 9397 (SSN), as amended.”

Purpose(s):

Delete entry and replace with “To consolidate all of the human resources functions and permit ready access to manpower, personnel readiness, labor cost assignment, and education and training information across the DoD medical enterprise. This system of records provides a single database source of instant query/access for all personnel types and the readiness posture of all DoD medical personnel.”

Routine uses of records maintained in the system, including categories of users and the purposes of such uses:

Delete entry and replace with “In addition to those disclosures generally permitted under 5 U.S.C. 552a(b) of the Privacy Act of 1974, as amended, these records may specifically be disclosed outside the DoD as a routine use pursuant to 5 U.S.C. 552a(b)(3) as follows:

The DoD Blanket Routine Uses set forth at the beginning of the Defense Privacy and Civil Liberties Division compilation of systems of records notices may apply to this system. The complete list of DoD Blanket Routine Uses can be found online at: http://dpcld.defense.gov/Privacy/SORNsIndex/BlanketRoutineUses.aspx.”

* * * * *

Safeguards:

Delete entry and replace with: “Systems are maintained in a controlled area accessible only to authorized personnel with a valid requirement and authorization to enter. Physical entry is restricted by the use of locks, passwords which are changed periodically, and administrative procedures.

Users must have a CAC and an active user account in DMHRSi in order to access records created or maintained within the system. Access to personal information is restricted to those who require the data in the performance of their official duties. All personnel whose official duties require access to the information are trained in the proper safeguarding and use of the information.”

* * * * *

System manager(s) and address:

Delete entry and replace with “Chief/Deputy Program Manager, Resources Division, Solutions Delivery Division, Defense Health Agency, 7700 Arlington Boulevard, Suite 5101, Falls Church, VA 22042-5101.”

Notification procedure:

Delete entry and replace with “Individuals seeking to determine whether information about themselves is contained in this system of records should address written inquiries to Chief, Freedom of Information Act (FOIA) Service Center, Defense Health Agency Privacy and Civil Liberties Office, 7700 Arlington Boulevard, Suite 5101, Falls Church, VA 22042-5101.

Written requests should contain the individual's full name, home address, home phone number, and SSN/DoD ID number, the identifier of this system of records notice, and signature.

If requesting information about a legally incompetent person, the request must be made by the legal guardian or person with legal authority to make decisions on behalf of the individual. Written proof of that status may be required before the existence of any information will be confirmed.

In addition, the requester must provide a notarized statement or an unsworn declaration made in accordance with 28 U.S.C. 1746, in the following format:

If executed outside the United States: I declare (or certify, verify, or state) under penalty of perjury under the laws of the United States of America that the foregoing is true and correct. Executed on (date). (Signature)'.

If executed within the United States, its territories, possessions, or commonwealths: I declare (or certify, verify, or state) under penalty of perjury that the foregoing is true and correct. Executed on (date). (Signature)'.”

Record access procedures:

Delete entry and replace with “Individuals seeking access to records about themselves contained in this system of records should address written inquiries to the Chief, FOIA Service Center, Defense Health Agency Privacy and Civil Liberties Office, 7700 Arlington Boulevard, Suite 5101, Falls Church, VA 22042-5101.

Written requests for information should include the individual's full name, home address, home phone number, and SSN/DoD ID number, the identifier of this system of records notice, and signature.

If requesting information about a legally incompetent person, the request must be made by the legal guardian or person with legal authority to make decisions on behalf of the individual. Written proof of that status may be required before any records will be provided.

In addition, the requester must provide a notarized statement or an unsworn declaration made in accordance with 28 U.S.C. 1746, in the following format:

If executed outside the United States: I declare (or certify, verify, or state) under penalty of perjury under the laws of the United States of America that the foregoing is true and correct. Executed on (date). (Signature)'.

If executed within the United States, its territories, possessions, or commonwealths: I declare (or certify, verify, or state) under penalty of perjury that the foregoing is true and correct. Executed on (date). (Signature)'.”

* * * * *

Record source categories:

Delete entry and replace with “DoD pay and personnel systems, the Defense Enrollment Eligibility Reporting Systems (DEERS), DoD medical facilities personnel, DoD supervisors, and DoD operational records.”

* * * * *

[FR Doc. 2016-05820 Filed 3-14-16; 8:45 am]

BILLING CODE 5001-06-P